DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 10, 2012. Address written comments to Statutory Import Programs Staff, Room 3720, U.S. Department of Commerce, Washington, DC 20230. Applications may be examined between 8:30 a.m. and 5 p.m. at the U.S. Department of Commerce in Room 3720.

Docket Number: 12-011. Applicant: Cornell University, 120 Baker Lab, Ithaca, NY 14853. Instrument: Pixel Array Detector. Manufacturer: Dectris Ltd., Switzerland. Intended Use: This instrument will be used to determine the composition of molecules and visualizing their interaction sat the molecular level. Pertinent characteristics of this instrument include shutterless data collection, low noise, high dynamic range, high readout speed and very fine phi slicing, not available in conventional charge-coupled device detectors. Justification for Duty-Free Entry: There are no instruments of the same general category manufactured in the United States. Application accepted by Commissioner of Customs: March 22, 2012.

Docket Number: 12-017. Applicant: Argonne National Laboratory, 9700 South Cass Avenue, Lemont, IL 60439. Instrument: Pilatus 100K-S Detector. Manufacturer: Dectris Ltd., Switzerland. Intended Use: This instrument will be used to measure time evolution of x-ray diffraction signals from a variety of materials, including complex oxides and to determine the time-dependent atomic arrangements in those materials. Pertinent characteristics of this instrument include photon energy discrimination and gateable counting. The instrument also has a faster readout speed and better dynamic range than other detectors. Justification for Duty-Free Entry: There are no instruments of the same general category manufactured in the United States. Application accepted by Commissioner of Customs: March 22, 2012.

Dated: April 16, 2012.
Gregory Campbell,
Director, IA Subsidies Enforcement Office.

[FR Doc. 2012-9607 Filed 4-19-12; 8:45 am]

BILLING CODE 3510-DS-P